DEPARTMENT OF LABOR

Mine Safety and Health Administration

[OMB Control No. 1219-0001]

Proposed Extension of Information Collection; Certificate of Electrical Training and Applications for MSHA Approved Tests and State Tests Administered as Part of an MSHA-Approved State Program

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995, 44 U.S.C. 3506(c)(2)(A). This program helps to assure that requested data can be provided in the desired format, reporting burden (time and financial resources) is minimized, collection instruments are clearly understood, and the impact of collection requirements on respondents can be properly assessed. Currently, the Mine Safety and Health Administration (MSHA) is soliciting comments on the information collection for Certificate of Electrical Training and Applications for MSHA Approved Tests and State Tests Administered as Part of an MSHA-approved State Program.

DATES: All comments must be received on or before July 19, 2016.

ADDRESSES: Comments concerning the information collection requirements of this notice may be sent by any of the methods listed below.

• Federal E-Rulemaking Portal: http://www.regulations.gov. Follow the on-line instructions for submitting comments for docket number MSHA-2016-0017.

• Regular Mail: Send comments to USDOL-MSHA, Office of Standards, Regulations, and Variances, 201 12th Street South, Suite 4E401, Arlington, VA 22202-5452.

• Hand Delivery: USDOL-Mine Safety and Health Administration, 201 12th Street South, Suite 4E401, Arlington, VA 22202-5452. Sign in at the receptionist's desk on the 4th floor via the East elevator.

FOR FURTHER INFORMATION CONTACT: Sheila McConnell, Director, Office of Standards, Regulations, and Variances, MSHA, at MSHA.information.collections@dol.gov (email); 202-693-9440 (voice); or 202-693-9441 (facsimile).

SUPPLEMENTARY INFORMATION:

I. Background

Under section 305(g) of the Federal Mine Safety and Health Act of 1977 (Mine Act), all electric equipment shall be frequently examined, tested, and properly maintained by a qualified person to assure safe operating conditions.

Title 30 CFR 75.153 and 77.103 define a person as qualified to perform electrical work if he has been qualified as a coal mine electrician by a State that has a coal mine electrical qualification program approved by MSHA; or if he has at least one year of experience performing electrical work underground in a coal mine, in a surface coal mine, in a noncoal mine, in the mine equipment manufacturing industry, or in any other industry using or manufacturing similar equipment, and has satisfactorily completed a coal mine electrical training program approved by MSHA or has attained a satisfactory grade on a series of five written tests approved by MSHA.

MSHA Form 5000-1 provides the coal mining industry with a standardized reporting format that expedites the certification process while ensuring compliance with the regulations. The information provided on the form enables MSHA to determine if the applicants satisfy the requirements to obtain the certification or qualification.

II. Desired Focus of Comments

MSHA is soliciting comments concerning the proposed information collection related to Certificate of Electrical Training and Applications for MSHA Approved Tests and State Tests Administered as Part of an MSHA-approved State Program. MSHA is particularly interested in comments that:

• Evaluate whether the collection of information is necessary for the proper performance of the functions of the agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at USDOL-Mine Safety and Health Administration, 201 12th South, Suite 4E401, Arlington, VA 22202-5452. Sign in at the receptionist's desk on the 4th floor via the East elevator.

Questions about the information collection requirements may be directed to the person listed in the FOR FURTHER INFORMATION CONTACT section of this notice.

III. Current Actions

This request for collection of information contains provisions for Certificate of Electrical Training and Applications for MSHA Approved Tests and State Tests Administered as Part of an MSHA-approved State Program. MSHA has updated the data with respect to the number of respondents, responses, burden hours, and burden costs supporting this information collection request.

Type of Review: Extension, without change, of a currently approved collection.

Agency: Mine Safety and Health Administration.

OMB Number: 1219-0001.

Affected Public: Business or other for-profit.

Number of Respondents: 289.

Frequency: On occasion.

Number of Responses: 1,414.

Annual Burden Hours: 599 hours.

Annual Respondent or Recordkeeper Cost: $274.

MSHA Forms: MSHA Form 5000-1, Certificate of Electrical Training.

Comments submitted in response to this notice will be summarized and included in the request for Office of Management and Budget approval of the information collection request; they will also become a matter of public record.

Sheila McConnell,
Certifying Officer.

[FR Doc. 2016-11915 Filed 5-19-16; 8:45 am]

BILLING CODE 4510-43-P